DEPARTMENT OF LABOR

Mine Safety and Health Administration

30 CFR Parts 7, 18, 44, 46, 48, 49, 56, 57, 60, 70, 71, 72, 74, 75, and 90

[Docket No. MSHA-2025-0001]

RIN 1219-AC03

Update to MSHA's Address; Technical Amendment

AGENCY: Mine Safety and Health Administration (MSHA), Department of Labor.

ACTION: Final rule; technical amendment.

SUMMARY: The Mine Safety and Health Administration (MSHA) is amending its published regulations to update the Agency's Headquarters address from Arlington, VA to its new location in Washington, DC.

DATES: Effective date: February 26, 2026.

FOR FURTHER INFORMATION CONTACT: Jessica D. Senk, Acting Director, Office of Standards, Regulations, and Variances, MSHA, at Senk.Jessica@dol.gov (email); (202) 693-9440 (voice); or (202) 693-9441 (facsimile). These are not toll-free numbers.

SUPPLEMENTARY INFORMATION:

In Spring 2025, MSHA moved its Headquarters offices from 201 12th Street South, Arlington, VA 22202-5452 to 200 Constitution Avenue NW, Washington, DC 20210. MSHA is amending its regulations to include the Agency's new Headquarters address in Title 30 of the Code of Federal Regulations (CFR), Mineral Resources, Chapter I.

This technical amendment is a procedural “rule” under 5 U.S.C. 551(4), and it is not subject to the notice-and-comment rulemaking requirements in 5 U.S.C. 553. This action also does not constitute a “regulatory action” subject to Executive Order 12866. Accordingly, the regulations in 30 CFR parts 7, 18, 44, 46, 48, 49, 56, 57, 60, 70, 71, 72, 74, 75, and 90 are amended to include the updated address information.

List of Subjects

30 CFR Part 7

Explosives, Mine safety and health, Reporting and recordkeeping requirements, Research.

30 CFR Part 18

Mine safety and health, Reporting and recordkeeping requirements.

30 CFR Part 44

Administrative practice and procedure, Mine safety and health, Reporting and recordkeeping requirements.

30 CFR Part 46

Education, Mine safety and health, Reporting and recordkeeping requirements.

30 CFR Part 48

Education, Mine safety and health, Reporting and recordkeeping requirements.

30 CFR Part 49

Education, Mine safety and health, Reporting and recordkeeping requirements.

30 CFR Part 56

Chemicals, Electric power, Explosives, Fire prevention, Hazardous substances, Metal and nonmetal mining, Mine safety and health, Noise control, Reporting and recordkeeping requirements, Surface mining.

30 CFR Part 57

Chemicals, Electric power, Explosives, Fire prevention, Gases, Hazardous substances, Metal and nonmetal mining, Mine safety and health, Noise control, Radiation protection, Reporting and recordkeeping requirements, Underground mining.

30 CFR Part 60

Coal, Incorporation by reference, Metal and nonmetal mining, Medical surveillance, Mine safety and health, Respirable crystalline silica, Reporting and recordkeeping requirements, Surface mining, Underground mining.

30 CFR Part 70

Coal, Mine safety and health, Reporting and recordkeeping requirements, Respirable dust, Underground coal mines.

30 CFR Part 71

Coal, Mine safety and health, Reporting and recordkeeping requirements, Surface coal mines, Underground coal mines.

30 CFR Part 72

Coal, Health standards, Mine safety and health, Training, Underground mining.

30 CFR Part 74

Coal, Mine safety and health, Occupational safety and health.

30 CFR Part 75

Coal, Mine safety and health, Reporting and recordkeeping requirements, Underground coal mines, Ventilation.

30 CFR Part 90

Coal, Mine safety and health, Reporting and recordkeeping requirements, Respirable dust.

For the reasons set out in the preamble, and under the authority of the Federal Mine Safety and Health Act of 1977, as amended, the Mine Safety and Health Administration amends chapter I of title 30 of the Code of Federal Regulations as follows:

PART 7—TESTING BY APPLICANT OR THIRD PARTY

1. The authority citation for part 7 continues to read as follows:

Authority: 30 U.S.C. 957.

§ 7.505 [Amended]

2. Amend § 7.505(b)(6) by removing the text “201 12th Street South, Arlington, VA 22202-5452” and adding in its place the text “200 Constitution Avenue NW, Washington, DC 20210.”

PART 18—ELECTRIC MOTOR-DRIVEN MINE EQUIPMENT AND ACCESSORIES

3. The authority citation for part 18 continues to read as follows:

Authority: 30 U.S.C. 957, 961.

§ 18.82 [Amended]

4. Amend § 18.82(a) by removing the text “201 12th Street South, Arlington, VA 22202-5452” and adding in its place the text “200 Constitution Avenue NW, Washington, DC 20210.”

PART 44—RULES OF PRACTICE FOR PETITIONS FOR MODIFICTION OF MANDATORY SAFETY STANDARDS

5. The authority citation for part 44 continues to read as follows:

Authority: 30 U.S.C. 957.

§§ 44.10 and 44.21 [Amended]

6. Amend part 44 by removing the text “201 12th Street South, Arlington, VA 22202-5452” and adding in its place the text “200 Constitution Avenue NW, Washington, DC 20210” in the following places:

a. Section 44.10; and

b. Section 44.21(a).

PART 46—TRAINING AND RETRAINING OF MINERS ENGAGED IN SHELL DREDGING OR EMPLOYED AT SAND, GRAVEL, SURFACE STONE, SURFACE CLAY, COLLOIDAL PHOSPHATE, OR SURFACE LIMESTONE MINES

7. The authority citation for part 46 continues to read as follows:

Authority: 30 U.S.C. 811, 825.

§§ 46.2 and 46.3 [Amended]

8. Amend part 46 by removing the text “201 12th Street South, Arlington, VA 22202-5452” and adding in its place the text “200 Constitution Avenue NW, Washington, DC 20210” in the following places:

a. Section 46.2(d)(1)(iii); and

b. Section 46.3(h).

PART 48—TRAINING AND RETRAINING OF MINERS

9. The authority citation for part 48 continues to read as follows:

Authority: 30 U.S.C. 811, 825.

§§ 48.3, 48.12, 48.23, and 48.32 [Amended]

10. Amend part 48 by removing the text “201 12th Street South, Arlington, VA 22202-5452” and adding in its place the text “200 Constitution Avenue NW, Washington, DC 20210” in the following places:

a. Section 48.3(i);

b. Section 48.12(a);

c. Section 48.23(i); and

d. Section 48.32(a).

PART 49—MINE RESCUE TEAMS

11. The authority citation for part 49 continues to read as follows:

Authority: 30 U.S.C. 811, 825(e).

§§ 49.3, 49.4, and 49.8 [Amended]

12. Amend part 49 by removing the text “201 12th Street South, Arlington, VA 22202-5452” and adding in its place the text “200 Constitution Avenue NW, Washington, DC 20210” in the following places:

a. Section 49.3(h)(2);

b. Section 49.4(i)(2); and

c. Section 49.8(e).

PART 56—SAFETY AND HEALTH STANDARDS—SURFACE METAL AND NONMETAL MINES

13. The authority citation for part 56 continues to read as follows:

Authority: 30 U.S.C. 811.

§§ 56.2, 56.5001T, 56.5005T, 56.6133, 56.6201, 56.14130, and 56.14131 [Amended]

14. Amend part 56 by removing the text “201 12th Street South, Arlington, VA 22202-5452” and adding in its place the text “200 Constitution Avenue NW, Washington, DC 20210” in the following places:

a. Section 56.2, definition of “Laminated partition”;

b. Section 56.6133(b);

c. Section 56.6201(a)(2) and (b)(2);

d. Section 56.14130(j); and

e. Section 56.14131(d).

§ 56.5001T and 56.5005T [Amended]

15. Further amend part 56 by removing the text “201 12th Street South, Arlington, VA 22202-5450” and adding in its place the text “200 Constitution Avenue NW, Washington, DC 20210” in the following places:

a. Section 56.5001T(a); and

b. Section 56.5005T(b).

PART 57—SAFETY AND HEALTH STANDARDS—UNDERGROUND METAL AND NONMETAL MINES

16. The authority citation for part 57 continues to read as follows:

Authority: 30 U.S.C. 811.

§§ 57.2, 57.6133, 57.6201, 57.14130, 57.14131, and 57.22005 [Amended]

17. Amend part 57 by removing the text “201 12th Street South, Arlington, VA 22202-5452” and adding in its place the text “200 Constitution Avenue NW, Washington, DC 20210” in the following places:

a. Section 57.2, definition of “Laminated partition”;

b. Section 57.6133(b);

c. Section 57.6201(a)(2) and (b)(2);

d. Section 57.14130(j);

e. Section 57.14131(d); and

f. Section 57.22005(b) introductory text.

§ 57.5001T and 57.5005T [Amended]

18. Further amend part 57 by removing the text “201 12th Street South, Arlington, VA 22202-5450” and adding in its place the text “200 Constitution Avenue NW, Washington, DC 20210” in the following places:

a. Section 57.5001T(a); and

b. Section 57.5005T(b).

PART 60—RESPIRABLE CRYSTALLINE SILICA

19. The authority citation for part 60 continues to read as follows:

Authority: 30 U.S.C. 811, 813(h) and 957.

§§ 60.12 and 60.14 [Amended]

20. Amend part 60 by removing the text “201 12th Street South, Arlington, VA 22202-5450” and adding in its place the text “200 Constitution Avenue NW, Washington, DC 20210” in the following places:

a. Section 60.12(e)(4); and

b. Section 60.14(c)(2).

PART 70—MANDATORY HEALTH STANDARDS—UNDERGROUND COAL MINES

21. The authority citation for part 70 continues to read as follows:

Authority: 30 U.S.C. 811, 813(h), 957.

§§ 70.204 and 70.1900 [Amended]

22. Amend part 70 by removing the text “201 12th Street South, Arlington, VA 22202-5452” and adding in its place the text “200 Constitution Avenue NW, Washington, DC 20210” in the following places:

a. Section 70.204(e); and

b. Section 70.1900(c).

PART 71—MANDATORY HEALTH STANDARDS—SURFACE COAL MINES AND SURFACE WORK AREAS OF UNDERGROUND COAL MINES

23. The authority citation for part 71 continues to read as follows:

Authority: 30 U.S.C. 811, 813(h), 957.

§§ 71.204, 71.402, and 71.700 [Amended]

24. Amend part 71 by removing the text “201 12th Street South, Arlington, VA 22202-5452” and adding in its place the text “200 Constitution Avenue NW, Washington, DC 20210” in the following places:

a. Section 71.204(e);

b. Section 71.402(b); and

c. Section 71.700(a).

PART 72—HEALTH STANDARDS FOR COAL MINES

25. The authority citation for part 72 continues to read as follows:

Authority: 30 U.S.C. 811, 813(h), 957.

§ 72.710 [Amended]

26. Amend § 72.710 by removing the text “201 12th Street South, Arlington, VA 22202-5450” and adding in its place the text “200 Constitution Avenue NW, Washington, DC 20210.”

PART 74—COAL MINE DUST SAMPLING DEVICES

27. The authority citation for part 74 continues to read as follows:

Authority: 30 U.S.C. 957.

§§ 74.7, 74.8, and 74.9 [Amended]

28. Amend part 74 by removing the text “201 12th Street South, Arlington, VA 22202-5452” and adding in its place the text “200 Constitution Avenue NW, Washington, DC 20210” in the following places:

a. Section 74.7(f)(1)(ii), (f)(2)(ii), and (g)(2);

b. Section 74.8(f)(2); and

c. Section 74.9(a)(3).

PART 75—MANDATORY SAFETY STANDARDS—UNDERGROUND COAL MINES

29. The authority citation for part 75 continues to read as follows:

Authority: 30 U.S.C. 811, 813(h), 957.

§§ 75.301, 75.322, 75.333, 75.523-1, 75.818, 75.833, 75.1710-1, and 75.1900 [Amended]

30. Amend part 75 by removing the text “201 12th Street South, Arlington, VA 22202-5452” and adding in its place the text “200 Constitution Avenue NW, Washington, DC 20210” in the following places:

a. Section 75.301, definitions of “Noncombustible structure or area” and “Noncombustible material”;

b. Section 75.322;

c. Section 75.333(d)(1), (e)(1)(i), (e)(3), and (f);

d. Section 75.523-1(c);

e. Section 75.818(b)(4);

f. Section 75.833(c)(1);

g. Section 75.1710-1(f); and

h. Section 75.1900, definition of “Noncombustible material”.

PART 90—MANDATORY HEALTH STANDARDS—COAL MINERS WHO HAVE EVIDENCE OF PNEUMOCONIOSIS

31. The authority citation for part 90 continues to read as follows:

Authority: 30 U.S.C. 811, 813(h), 957.

§§ 90.3 and 90.204 [Amended]

32. Amend part 90 by removing the text “201 12th Street South, Arlington, VA 22202-5452” and adding in its place the text “200 Constitution Avenue NW, Washington, DC 20210” in the following places:

a. Section 90.3(d) and (e); and

b. Section 90.204(e).

Wayne D. Palmer,
Assistant Secretary of Labor for Mine Safety and Health Administration.

[FR Doc. 2026-03902 Filed 2-25-26; 8:45 am]

BILLING CODE 4520-43-P